ENVIRONMENTAL PROTECTION AGENCY

[FRL-6936-7]

Peer Review of Agency Draft Strategy for Global Change Research Program

AGENCY: Environmental Protection Agency (EPA).

ACTION: Notice of meeting.

SUMMARY: This notice announces a workshop organized by Eastern Research Group, Inc., a U.S. Environmental Protection Agency (EPA) contractor, to obtain scientific peer-review of an EPA Office of Research and Development (ORD) draft Research Strategy entitled: Research Strategy—Global Change Research Program.

DATES: The peer review workshop will begin at 8:30 a.m. and end no later than 5 p.m. on Thursday, February 15, 2001, and begin at 8 a.m. and end no earlier than 3 p.m. on Friday, February 16, 2001. Members of the public may attend as observers. Due to limited space, seating at the meetings will be on a first-come first-serve basis.

ADDRESSES: The peer review will be held at the Holiday Inn Capitol, 550 C Street, SW., Washington, DC 20024. To attend the workshop as an observer, contact Eastern Research Group, Inc., Telephone: (781) 674-7374. Space is limited so please register early.

Availability of Review Materials: An electronic version of the draft Research Strategy is accessible on EPA's National Center for Environmental Assessment (NCEA) home page via the Internet at http://www.epa.gov/ncea/glbchng.htm.

FOR FURTHER INFORMATION CONTACT: The EPA has contracted with Eastern Research Group, Inc., (ERG, Inc., 110 Hartwell Avenue, Lexington, Massachusetts 02421). To attend the meeting as an observer, please preregister by calling ERG at 781-674-7374 or fax a registration request to 781-674-2906. Upon registration, you will be sent an agenda and a logistical fact sheet.

SUPPLEMENTARY INFORMATION: ERG is convening the peer review panel to review the draft Research Strategy—Global Change Research Program. The peer review panel is requested to comment on the extent to which the Research Strategy clearly identifies the appropriate strategic directions for a core research program that will develop the methods, models, and measurements to strengthen the scientific foundation for assessing the potential consequences of global change on human health, ecosystems, and social well-being in the United States.

The emphasis of the Program's research and assessment strategy is on understanding the risks and opportunities presented by global change, the interdependent and interactive effects of multiple stresses, the human dimensions of global change (i.e., human activities that catalyze, as well as those that respond to global change), and adaptation options.

After considering recommendations from extramural advisory groups, as well as from senior scientists from across EPA's Program and Regional Offices, ORD has identified, in the Research Strategy, the strategic directions for its Global Change Research Program. While the Research Strategy delineates the research areas comprising the framework for the Global Change Research Program, the details of the research areas, including the scientific approach at the individual project level, and the anticipated products, performance measures, and schedules, will be included in subsequent research plans and are not a part of this Research Strategy. ERG is undertaking the establishment of a peer review panel to review the Research Strategy.

Dated: January 17, 2001.
William H. Farland,
Acting Deputy Assistant Administrator for Science, Office of Research and Development.

[FR Doc. 01-2178 Filed 1-23-01; 8:45 am]

BILLING CODE 6560-50-P